DEPARTMENT OF DEFENSE

Office of the Secretary

[Docket ID: DOD-2019-OS-0015]

Privacy Act of 1974; Matching Program

AGENCY: Office of the Secretary, Department of Defense (DoD).

ACTION: Notice of a new matching program.

SUMMARY: This Computer Matching Agreement (CMA) identifies individuals receiving both federal compensation or pension benefits and public assistance benefits under federal programs administered by the states and verifies public assistance clients' declarations of income circumstances.

DATES: Comments will be accepted on or before March 29, 2019. This proposed action will be effective the day following the end of the comment period unless comments are received which result in a contrary determination.

ADDRESSES: You may submit comments, identified by docket number and title, by any of the following methods:

• Federal Rulemaking Portal: http://www.regulations.gov.

Follow the instructions for submitting comments.

• Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Cheryl D. Jenkins, Management Analyst, Defense Privacy, Civil Liberties, and Transparency Division at (703) 571-0070.

SUPPLEMENTARY INFORMATION: Each participating State Public Assistance Agency (SPAA) will provide the Department of Defense, Defense Manpower Data Center (DMDC) with finder files containing identifying and other data about public assistance applicants or recipients, which DMDC will match against DoD military and civilian pay files, military retired pay files, and survivor pay files (Office of Personnel Management (OPM) civilian retired and survivor pay files will not be used). DMDC will return matched data to the SPAA, which the SPAA will use to verify individuals' continued eligibility to receive public assistance benefits and, if ineligible, to take such action as may be authorized by law and regulation to ensure fair and equitable treatment in the delivery of and benefits attributable to funds provided by the Federal Government. HHS will support each of SPAA's efforts to ensure appropriate participation in the matching program and compliance with this agreement's terms by assisting with drafting the agreements and helping arrange signatures to the agreements. A new routine use is concurrently being added to DoD System of Records Notice, DMDC 01 to specifically address this computer match.

Participating Agencies: The Department of Defense (DoD), Defense Manpower Data Center, DoD; Department of Health and Human Services; and the State Public Assistance Agencies (SPAAs).

Authority for Conducting the Matching Program: Sections 402, 1137, and 1903(r) of the Social Security Act (the Act), 42 U.S.C. §§ 602, a 1320b-7, and 1396b(r).

Purpose(s): This matching program identifies individuals receiving both federal compensation or pension benefits and public assistance benefits under federal programs administered by the states and to verify public assistance clients' declarations of income circumstances.

Categories of Individuals: The categories of individuals whose information is involved in the matching program are:

—Individuals who apply for or receive public assistance benefits under federal programs administered by the states (Medicaid, Temporary Assistance to Needy Families, and Supplemental Nutrition Assistance Program); and

—Individuals who receive compensation from the DoD (military, civilian, survivor, and retired).

Categories of Records: The categories of records involved in the matching program are DoD military and civilian pay records, military retired pay records, and survivor pay records. The matching program will compare the Social Security Numbers (SSNs), using all nine digits, in quarterly SPAA finder files about individuals applying for public assistance benefits with DoD pay records. The SPAA finder files will contain the client's name, SSN, date of birth, address, sex, marital status, number of dependents, information regarding the specific public assistance benefit being received, and such other data as considered necessary. The data elements that will be provided to a SPAA about a DoD affiliated individual whose nine digit SSN matches a SSN in a quarterly SPAA file include (as applicable): individual's name; SSN; active or retired; if active, military service or employing agency; and current work or home address; salary related information and such other data as considered necessary.

System of Records: Defense Manpower Data Center Data Base (DMDC 01), 76 FR 72391 (Nov. 23, 2011).

Dated: February 22, 2019.
Aaron T. Siegel,
Alternate OSD Federal Register Liaison Officer, Department of Defense.

[FR Doc. 2019-03420 Filed 2-26-19; 8:45 am]

BILLING CODE 5001-06-P